DEPARTMENT OF DEFENSE

Office of the Secretary

[Transmittal No. 22-13]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-13 with attached Policy Justification and Sensitivity of Technology.

Dated: September 21, 2023.
Aaron T. Siegel,
Alternate OSD Federal Register Liaison Officer, Department of Defense.

Transmittal No. 22-13

Notice of Proposed Issuance of Letter of Offer Pursuant to Section 36(b)(1) of the Arms Export Control Act, as amended

(i) Prospective Purchaser: Government of Indonesia

(ii) Total Estimated Value:

Major Defense Equipment * | $9.5 billion
Other | $ 4.4 billion
Total | $13.9 billion

Funding Source: National Funds

(iii) Description and Quantities of Articles or Services under Consideration for Purchase:

Major Defense Equipment (MDE):

Up to thirty-six (36) F-15ID Aircraft

Eighty-seven (87) F110-GE-129 or F100-PW-229 Engines (72 installed, 15 spares)

Forty-five (45) AN/APG-82(v)1 Advanced Electronically Scanned Array (AESA) Radars (36 installed, 9 spares)

Forty-five (45) AN/ALQ-250 Eagle Passive Active Warning Survivability Systems (EPAWSS) (36 installed, 9 spares)

Forty-eight (48) Advanced Display Core Processor (ADCP) II Digital Computers (36 installed, 12 spares)

Eighty (80) Joint Helmet Mounted Cueing Systems (JHMCS) (72 installed, 8 spares)

Ninety-two (92) Embedded Global Positioning Systems (GPS)/Inertial Navigation System (EGI) Security Devices

Forty (40) AN/AAQ-13 LANTIRN Navigation Pods (36 installed, 4 spares)

Forty (40) AN/AAQ-33 Sniper Advanced Targeting Pods (ATP) (36 installed, 4 spares)

One hundred fifty-six (156) LAU-128 Launchers (144 installed, 12 spares)

Forty (40) M61A “Vulcan” Gun Systems (36 installed, 4 spares)

Non-MDE:

Also included are Air Combat Maneuvering Instrumentation (ACMI) (P5 CTS) training pods and support equipment; MS-110 Recce Pods; AN/ASG-34 Infrared Search and Track International; AN/ALE-47 counter-measures dispenser; AN/PYQ Simple Key Loaders; additional precision navigation, secure communications and cryptographic equipment; Electronic Combat International Security Assistance Program (ECISAP) support; Joint Mission Planning Systems (JMPS); Night Vision Goggles (NVG) and support equipment and spares; conformal fuel tanks; chaff and flares; aircraft and personnel support and test equipment; pylons, launcher adaptors, weapons interfaces, fuel tanks, and attached hardware; travel pods, precision measurement equipment laboratory, calibration, and simulators; spare and repair parts, repair and return services; maps, publications, and technical documentation; studies and surveys; classified/unclassified software and software support; personnel training and training equipment; facilities and facility management, design and/or construction services; U.S. Government and contractor engineering, technical and logistics support services; and other related elements of logistical and program support.

(iv) Military Department: Air Force (ID-D-SAC)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: February 10, 2022

* As defined in Section 47(6) of the Arms Export Control Act.

POLICY JUSTIFICATION

Indonesia—F-15ID Aircraft

The Government of Indonesia has requested to buy up to thirty-six (36) F-15ID aircraft; eighty-seven (87) F110-GE-129 or F100-PW-229 engines (72 installed, 15 spares); forty-five (45) AN/APG-82(v)1 Advanced Electronically Scanned Array (AESA) Radars (36 installed, 9 spares); forty-five (45) AN/ALQ-250 Eagle Passive Active Warning Survivability Systems (EPAWSS) (36 installed, 9 spares); forty-eight (48) Advanced Display Core Processor (ADCP) II digital computers (36 installed, 12 spares); eighty (80) Joint Helmet Mounted Cueing Systems (JHMCS) (72 installed, 8 spares); ninety-two (92) Embedded Global Positioning Systems (GPS)/Inertial Navigation System (EGI) security devices; forty (40) AN/AAQ-13 LANTIRN navigation pods (36 installed, 4 spares); forty (40) AN/AAQ-33 Sniper Advanced Targeting Pods (ATP) (36 installed, 4 spares); one hundred fifty-six (156) LAU-128 launchers (144 installed, 12 spares); and forty (40) M61A “Vulcan” gun systems (36 installed, 4 spares). Also included are Air Combat Maneuvering Instrumentation (ACMI) (P5 CTS) training pods and support equipment; MS-110 Recce Pods; AN/ASG-34 Infrared Search and Track International; AN/ALE-47 counter-measures dispenser; AN/PYQ Simple Key Loaders; additional precision navigation, secure communications and cryptographic equipment; Electronic Combat International Security Assistance Program (ECISAP) support; Joint Mission Planning Systems (JMPS); Night Vision Goggles (NVG) and support equipment and spares; conformal fuel tanks; chaff and flares; aircraft and personnel support and test equipment; pylons, launcher adaptors, weapons interfaces, fuel tanks, and attached hardware; travel pods, precision measurement equipment laboratory, calibration, and simulators; spare and repair parts, repair and return services; maps, publications, and technical documentation; studies and surveys; classified/unclassified software and software support; personnel training and training equipment; facilities and facility management, design and/or construction services; U.S. Government and contractor engineering, technical and logistics support services; and other related elements of logistical and program support. The estimated total cost is $13.9 billion.

This proposed sale will support the foreign policy goals and national security objectives of the United States by improving the security of an important regional partner that is a force for political stability, and economic progress in the Asia-Pacific region. It is vital to U.S. national interest to assist Indonesia in developing and maintaining a strong and effective self-defense capability.

The proposed sale will improve Indonesia's capability to meet current and future threats by enabling it to provide increased deterrence and air defense coverage across a very complex air and maritime domain. Indonesia will have no difficulty absorbing these aircraft and equipment into its armed forces.

The proposed sale of this equipment and support will not alter the basic military balance in the region.

The principal contractor will be The Boeing Company, St. Louis, MO. The purchaser typically requests offsets. Any offset agreement will be defined in negotiations between the purchaser and the contractor.

Implementation of this proposed sale will require the assignment of fewer than 20 U.S. Government and contractor representatives to Indonesia to provide technical support for maintenance operations and to conduct flight and maintenance training.

There will be no adverse impact on U.S. defense readiness as a result of this proposed sale.

Transmittal No. 22-13

Notice of Proposed Issuance of Letter of Offer Pursuant to Section 36(b)(1) of the Arms Export Control Act

Annex

Item No. vii

(vii) Sensitivity of Technology:

1. The F-15ID aircraft is a two seat, twin engine, all weather dual-role advanced long-range interdiction and tactical aircraft based on the F-15E airframe. It features advanced avionics, electronic warfare and self-protection systems, along with superior weapons payload. The F-15ID can be employed in air superiority, interdiction, close air support and escort roles.

2. Sensitive elements of the proposed F-15ID include hardware, accessories, components, and associated software. Additional sensitive areas include operating manuals and maintenance technical orders containing performance information, operating and test procedures, and other information related to support operation and repair. The hardware, software, and data identified are classified to protect vulnerabilities, design, and performance parameters and other critical information.

3. Pratt and Whitney F100-PW-229EEP or General Electric F110-GE-129 engines are afterburning turbofan jet engines that power the F-15 and deliver 29,500 (P&W) and 29,100 (GE) lb (131 kN) thrust respectively.

4. AN/APG-82(V) 1 is an Active Electronically Scanned Array (AESA) radar upgrade for the F-15. It includes higher processor power, higher transmission power, more sensitive receiver electronics, and Synthetic Aperture Radar (SAR), which creates higher-resolution ground maps from a greater distance than existing mechanically scanned array radars (e.g., APG-68). The upgrade features an increase in detection range of air targets, increases in processing speed and memory, as well as significant improvements in all modes.

5. The AN/ALQ-250 Eagle Passive Active Warning Survivability System (EPAWSS) includes fully integrated radar warning, geo-location, situational awareness, and advanced electronic countermeasures that can be employed passively or actively. It is an internally mounted suite.

6. The Advanced Display Core Processor (ADCP) II is the central aircraft computer of the F-15. It serves as the hub for all aircraft subsystems and avionics data transfer.

7. The Embedded GPS-INS (EGI) with Selective Availability Anti-Spoofing Module (SAASM) is a self-contained navigation system that provides the following: acceleration, velocity, position, attitude, platform azimuth, magnetic and true heading, altitude, body angular rates, time tags, and coordinated universal time (UTC) synchronized time. SAASM enables the GPS receiver access to the encrypted P(Y) signal providing protection against active spoofing attacks.

8. The AN/AAQ-33 SNIPER Advanced Targeting Pod (ATP) targeting system is a multi-sensor, electro-optical targeting pod incorporating infrared, low-light television camera, laser range finder/target designator, and laser spot tracker. It is used to provide navigation and targeting for military aircraft in adverse weather and using precision-guided weapons such as laser-guided bombs. It also provides positive target identification, autonomous tracking, coordinate generation, and precise weapons guidance from extended standoff ranges.

9. The AN/AAQ-13 LANTIRN is a navigation pod and provides high-speed penetration and precision attack assistance in all flying conditions. The pod uses a terrain-following radar and a fixed infrared sensor to display an image of the terrain in front of the aircraft on a heads-up display.

10. The MS-110 Recce Pod is a Non-Program of Record electro-optic and infrared airborne reconnaissance system with long range, day/night, multi-spectral sensor technology. The multi-spectral sensor lets the end user see color and better distinguish subtle features that traditional gray-scale imagery cannot. The pod can transmit imagery via a datalink to ground-stations for near-real time analysis and exploitation.

11. The AN/ASG-34 Infrared Search and Track International system is a long-wave, high resolution, passive infrared sensor system that searches and detects heat sources within its field of regard.

12. The AN/APQ-10C Simple Key Loader is a handheld fill device for securely receiving, storing, and transferring data between cryptographic and communications equipment.

13. The Joint Helmet Mounted Cueing Systems (JHMCS) is a modified HGU-55/P helmet that incorporates a visor-projected Heads Up Display to cue weapons and aircraft sensors to air and ground targets. This system projects visual targeting and aircraft performance information on the back of the helmet's visor, enabling the pilot to monitor this information without interrupting his field of view through the cockpit canopy.

14. The AN/AVS-9 Night Vision Goggles (NVG) provide imagery sufficient for an aviator to complete night time missions in extreme low light conditions.

15. The AN/ALE-47 Counter-Measures Dispensing System (CMDS) is an integrated, threat-adaptive, software programmable dispensing system capable of dispending chaff, flares, and active radio frequency expendables. The system is internally mounted and may be operated as a stand-alone system or may be integrated with other on-board electronic warfare and avionics systems. The AN/ALE-47 uses data received over the aircraft interfaces to assess the threat situation and to determine a response.

16. The Joint Mission Planning System (JMPS) or equivalent is a multi-platform PC based mission planning system to support military aviation operations.

17. The M61 20mm Vulcan Cannon is a six-barreled automatic cannon chambered in 20x120mm with a cyclic rate of fire from 2,500-6,000 shots per minute. This weapon is a hydraulically powered air cooled Gatling gun used to damage/destroy aerial targets, suppress/incapacitate personnel targets and damage or destroy moving and stationary light material targets.

18. The LAU-128 Guided Missile Launcher is capable of launching the AIM-120 Advanced Medium Range Air-to-Air Missile (AMRAAM) or the AIM-9X family of missiles. The LAU-128 launcher provides mechanical and electrical interface between missile and aircraft.

19. The P5 Combat Training System (CTS)/Tactical Combat Training System (TCTS) provides next generation, interoperable air combat training capabilities for U.S. and allied forces. The system allows the U.S. Navy, Marines and Air Force to train on a common platform with coalition partners. It sets the standard for joint, multiservice and coalition training.

20. The highest level of classification of defense articles, components, and services included in this potential sale is SECRET.

21. If a technologically advanced adversary were to obtain knowledge of the specific hardware and software elements, the information could be used to develop countermeasures that might reduce weapon system effectiveness or be used in the development of a system with similar or advanced capabilities.

22. A determination has been made that Indonesia can provide substantially the same degree of protection for the sensitive technology being released as the U.S. Government. This sale is necessary in furtherance of the U.S. foreign policy and national security objectives outlined in the Policy Justification.

23. All defense articles and services listed in this transmittal have been authorized for release and export to Indonesia.

[FR Doc. 2023-21066 Filed 9-26-23; 8:45 am]

BILLING CODE 5001-06-P